DEPARTMENT OF COMMERCE

National Telecommunications and Information Administration

Community Connectivity Initiative—Webinar Series

AGENCY: National Telecommunications and Information Administration, U.S. Department of Commerce.

ACTION: Notice of open meetings, monthly webinars.

SUMMARY: The National Telecommunications and Information Administration (NTIA), as part of its BroadbandUSA program, will host a nine-part series of monthly webinars to engage stakeholders to inform the development of the Community Connectivity Initiative (Initiative). The objective of the Initiative is to support communities working to accelerate broadband access, improve digital inclusion, strengthen policies, and support local community priorities. The webinar series will convene stakeholders to discuss the role that broadband plays in achieving local priorities and will solicit input on the development of the Initiative, which is a compilation of three new resources for local communities featuring: (1) A Community Connectivity framework; (2) an online self-assessment tool; and (3) a report and recommendations. Through collaborative sessions, participants will: Review the Community Connectivity framework; review assessment questions and response options; co-design the structure and content for the report and recommendations; and identify supporting resources and tools that will support the local communities' use of the tools in 2017 and beyond.

DATES: The Community Connectivity Initiative monthly webinars will be held on the second Thursday of each month from 2:00-3:00 p.m., Eastern Time, starting on July 14, 2016 and ending on March 9, 2017.

ADDRESSES: This is a virtual meeting. Participants can register for one or more webinars in the series at NTIA's Web site at http://www2.ntia.doc.gov/CommunityConnectivityWebinars.

FOR FURTHER INFORMATION CONTACT: Barbara Brown, National Telecommunications and Information Administration, U.S. Department of Commerce, Room 4889, 1401 Constitution Avenue NW., Washington, DC 20230; telephone: (202) 280-8260; email: bbrown@ntia.doc.gov. Please direct media inquiries to NTIA's Office of Public Affairs, (202) 482-7002; email press@ntia.doc.gov.

SUPPLEMENTARY INFORMATION:

NTIA's BroadbandUSA program provides expert advice and field-proven tools for assessing broadband adoption, planning new infrastructure and engaging a wide range of partners in broadband projects. BroadbandUSA convenes workshops on a regular basis to bring stakeholders together to discuss ways to improve broadband policies, share best practices, and connect communities to other federal agencies and funding sources for the purpose of expanding broadband infrastructure and adoption throughout America's communities. Experts from NTIA's BroadbandUSA program are available to provide technical assistance and to connect communities with additional resources, such as best practices, guides and program models.

NTIA's BroadbandUSA team is developing new tools to support communities working to expand broadband access, adoption and use. The Initiative will provide communities with a comprehensive self-assessment tool and report to enable communities to better understand how their current policies and programs support broadband connectivity; an index or comparative community connectivity score; technical assistance with broadband planning and implementation; and access to an expanding community of practice. This webinar series will address the development of each of these components, including the planning framework, online self-assessment tool, and report with recommendations. Each webinar will include a 15-20 minute overview and update on the Community Connectivity Initiative and a discussion topic pertinent to the 2016 development and program roll-out. The proposed focus areas for each meeting are listed below:

July 14: Initiative update and framework and assessment design discussion

Aug. 11: Initiative update and discussion of the report and recommended output

Sept.8: Initiative update and recommendations discussion

Oct. 13: Initiative update and discussion on user support requirements

Nov. 10: Initiative update and evaluation discussion

Dec. 8: Initiative update and discussion of training requirements

Jan. 12: Initiative update and discussion of roll-out timeline

Feb. 9: Initiative update and communication discussion

March 9: Initiative update and next steps discussion

Participants are welcome to attend one or many webinars. General questions and comments are welcome at any time during webinars via email to BroadbandUSA@ntia.doc.gov. The webinars are open to the public and press. Pre-registration is recommended. NTIA asks registrants to provide their first and last names and email addresses for both registration purposes and to receive any updates on the BroadbandUSA Community Connectivity Initiative at http://www2.ntia.doc.gov/CommunityConnectivityWebinars or via email at BroadbandUSA@ntia.doc.gov. Meeting agendas and relevant documents, including information on how to register for one or more webinars, will be also available on NTIA's Web site at http://www2.ntia.doc.gov/CommunityConnectivityWebinars.

Individuals requiring accommodations, such as language interpretation or other ancillary aids, are asked to notify the NTIA contact listed above at least seven (7) business days before the meeting.

Dated: June 8, 2016.
Kathy D. Smith,
Chief Counsel, National Telecommunications and Information Administration.

[FR Doc. 2016-13903 Filed 6-10-16; 8:45 am]

BILLING CODE 3510-60-P